DEPARTMENT OF HOMELAND SECURITY

Federal Emergency Management Agency

44 CFR Part 65

[Docket ID FEMA-2010-0003; Internal Agency Docket No. FEMA-B-1123]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Deputy Federal Insurance and Mitigation Administrator reconsider the changes. The modified BFEs may be changed during the 90-day period.

ADDRESSES: The modified BFEs for each community are available for inspection at the office of the Chief Executive Officer of each community. The respective addresses are listed in the table below.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama:
Shelby | Town of Calera (09-04-0261P) | March 24, 2010; March 31, 2010; Shelby County Reporter | The Honorable George W. Roy, Mayor, Town of Calera, P.O. Box 177, Calera, AL 35040 | July 29, 2010 | 010373
Shelby | Unincorporated areas of Shelby County (09-04-0261P) | March 24, 2010; March 31, 2010; Shelby County Reporter | The Honorable Lindsey Allison, Chairperson, Shelby County Commission, P.O. Box 467, Columbiana, AL 35051 | July 29, 2010 | 010191
Arizona:
Maricopa | City of Glendale (09-09-2335P) | March 18, 2010; March 25, 2010; Arizona Business Gazette | The Honorable Elaine M. Scruggs, Mayor, City of Glendale, 5850 West Glendale Avenue, Glendale, AZ 85301 | July 23, 2010 | 040045
Maricopa | Unincorporated areas of Maricopa County (09-09-2335P) | March 18, 2010; March 25, 2010; Arizona Business Gazette | The Honorable Don Stapley, Chairman, Maricopa County Board of Supervisors, 301 West Jefferson Street, Phoenix, AZ 85003 | July 23, 2010 | 040037
California:
Riverside | City of Perris (10-09-0106P) | March 31, 2010; April 7, 2010; The Perris Progress | The Honorable Daryl R. Busch, Mayor, City of Perris, 101 North D Street, Perris, CA 92570 | July 29, 2010 | 060258
Riverside | City of Riverside (09-09-1506P) | March 10, 2010; March 17, 2010; The Press-Enterprise | The Honorable Ronald O. Loveridge, Mayor, City of Riverside, 3900 Main Street, Riverside, CA 92522 | February 26, 2010 | 060260
Florida:
Miami-Dade | City of Sunny Isles Beach (09-04-8292P) | March 15, 2010; March 22, 2010; Miami Daily Business Review | The Honorable Norman S. Edelcup, Mayor, City of Sunny Isles Beach, 18070 Collins Avenue, Suite 250, Sunny Isles Beach, FL 33160 | February 26, 2010 | 120688
Osceola | City of St. Cloud (09-04-6066P) | March 25, 2010; April 1, 2010; Osceola News-Gazette | The Honorable Donna Hart, Mayor, City of St. Cloud, 1300 9th Street, St. Cloud, FL 34769 | July 30, 2010 | 120191
Polk | Unincorporated areas of Polk County (09-04-8238P) | March 31, 2010; April 7, 2010; Polk County Democrat | The Honorable Bob English, Chairman, Polk County Board of County Commissioners, P.O. Box 9005, Drawer BC01, Bartow, FL 33831 | August 5, 2010 | 120261
Volusia | City of Deltona (09-04-1747P) | March 22, 2010; March 29, 2010; The Beacon | The Honorable Dennis Mulder, Mayor, City of Deltona, 2345 Providence Boulevard, Deltona, FL 32725 | July 27, 2010 | 120677
Georgia:
Catoosa | City of Ringgold (09-04-6882P) | March 24, 2010; March 31, 2010; The Catoosa County News | The Honorable Joe Barger, Mayor, City of Ringgold, 150 Tennessee Street, Ringgold, GA 30736 | July 29, 2010 | 130029
Catoosa | Unincorporated areas of Catoosa County (09-04-6882P) | March 24, 2010; March 31, 2010; The Catoosa County News | The Honorable Keith Greene, Chairman, Catoosa County Board of Commissioners, 800 Lafayette Street, Ringgold, GA 30736 | July 29, 2010 | 130028
Clayton | City of Morrow (09-04-4735P) | February 12, 2010; Februrary 19, 2010; Clayton News Daily | The Honorable Jim Millirons, Mayor, City of Morrow, 1500 Morrow Road, Morrow, GA 30260 | June 21, 2010 | 130045
Cobb | City of Smyrna (09-04-6852P) | March 12, 2010; March 19, 2010; Marietta Daily Journal | The Honorable A. Max Bacon, Mayor, City of Smyrna, 2800 King Street, Smyrna, GA 30080 | February 26, 2010 | 130057
Cobb | Unincorporated areas of Cobb County (09-04-6852P) | March 12, 2010; March 19, 2010; Marietta Daily Journal | The Honorable Samuel S. Olens, Chairman, Cobb County Board of Commissioners, 100 Cherokee Street, Marietta, GA 30090 | February 26, 2010 | 130052
Columbia | Unincorporated areas of Columbia County (09-04-4792P) | March 14, 2010; March 21, 2010; The Columbia County News-Times | The Honorable Ron C. Cross, Chairman, Columbia County Board of Commissioners, P.O. Box 498, Evans, GA 30809 | July 19, 2010 | 130059
Fulton | City of Atlanta (09-04-6852P) | March 12, 2010; March 19, 2010; Fulton Daily Report | The Honorable Kasim Reed, Mayor, City of Atlanta, 55 Trinity Avenue, Atlanta, GA 30303 | February 26, 2010 | 135160
Illinois:
Will | Village of Mokena (09-05-4682P) | March 25, 2010; April 1, 2010; Mokena Messenger | The Honorable Joseph W. Werner, Mayor, Village of Mokena, 11004 Carpenter Street, Mokena, IL 60448 | July 30, 2010 | 170705
Will | Village of Romeoville (09-05-4629P) | March 25, 2010; April 1, 2010; The Herald News | The Honorable John Noak, Mayor, Village of Romeoville, 13 Montrose Drive, Romeoville, IL 60446 | July 30, 2010 | 170711
Will | Unincorporated areas of Will County (09-05-4629P) | March 25, 2010; April 1, 2010; The Herald News | The Honorable Lawrence M. Walsh, Chairman, Will County Board of Supervisors, 302 North Chicago Street, Joliet, IL 60432 | July 30, 2010 | 170695
Mississippi:
Rankin | City of Brandon (09-04-6879P) | March 31, 2010; April 7, 2010; Rankin County News | The Honorable Tim Coulter, Mayor, City of Brandon, P.O. Box 1539, Brandon, MS 39043 | March 25, 2010 | 280143
Rankin | Unincorporated areas of Rankin County (09-04-6879P) | March 31, 2010; April 7, 2010; Rankin County News | The Honorable Jay Bishop, Chair, Rankin County Board of Supervisors, 211 East Government Street, Suite A, Brandon, MS 39042 | March 25, 2010 | 280142
North Carolina:
Dare | Town of Kill Devil Hills (09-04-6827P) | November 10, 2009; November 17, 2009; The Coastland Times | The Honorable Raymond Sturza, Mayor, Town of Kill Devil Hills, P.O. Box 1719, Kill Devil Hills, NC 27948 | October 30, 2009 | 375353
Durham | City of Durham (09-04-5502P) | November 20, 2009; November 27, 2009; The Herald Sun | The Honorable William V. Bell, Mayor, City of Durham, 101 City Hall Plaza, Durham, NC 27701 | April 5, 2010 | 370086
Forsyth | City of Winston-Salem (09-04-7422P) | January 5, 2010; January 12, 2010; Winston-Salem Journal | The Honorable Allen Joines, Mayor, City of Winston-Salem, P.O. Box 2511, Winston-Salem, NC 27102 | May 12, 2010 | 375360
Guilford | City of Greensboro (09-04-6072P) | November 30, 2009; December 7, 2009; Greensboro News & Record | The Honorable Yvonne J. Johnson, Mayor, City of Greensboro, P.O. Box 3136, Greensboro, NC 27402 | April 6, 2010 | 375351
McDowell | Unincorporated areas of McDowell County (09-04-1274P) | January 22, 2010; January 29, 2010; The McDowell News | Mr. Charles Abernathy, County Manager, McDowell County, 60 East Court Street, Marion, NC 28752 | June 1, 2010 | 370148
Orange | Town of Carrboro (09-04-7185P) | November 20, 2009; November 27, 2009; Chapel Hill Herald | The Honorable Mark Chilton, Mayor, Town of Carrboro, 301 West Main Street, Carrboro, NC 27510 | March 29, 2010 | 370275
Orange | Town of Chapel Hill (08-04-4997P) | December 9, 2009; December 16, 2009; Chapel Hill Herald | The Honorable Kevin Foy, Mayor, Town of Chapel Hill, 405 Martin Luther King Jr. Boulevard, Chapel Hill, NC 27514 | April 15, 2010 | 370180
Wake | City of Raleigh (09-04-4425P) | January 20, 2010; January 27, 2010; The News & Observer | The Honorable Charles Meeker, Mayor, City of Raleigh, 222 West Hargett Street, Raleigh, NC 27602 | May 27, 2010 | 370243
Wake | Unincorporated areas of Wake County (08-04-4911P) | November 30, 2009; December 7, 2009; The News & Observer | Mr. David C. Cooke, Wake County Manager, 337 South Salisbury Street, Suite 1100, Raleigh, NC 27602 | April 6, 2010 | 370368
Ohio:
Franklin | City of Columbus (09-05-4021P) | March 12, 2010; March 19, 2010; The Columbus Dispatch | The Honorable Michael B. Coleman, Mayor, City of Columbus, 90 West Broad Street, Columbus, OH 43215 | July 19, 2010 | 390170
Franklin | City of Whitehall (09-05-4021P) | March 12, 2010; March 19, 2010; The Columbus Dispatch | The Honorable John A. Wolfe, Mayor, City of Whitehall, 360 South Yearling Road, Whitehall, OH 43213 | July 19, 2010 | 390180
Warren | City of Monroe (09-05-1088P) | March 5, 2010; March 12, 2010; The Middletown Journal | The Honorable Robert Routson, Mayor, City of Monroe, P.O. Box 330, Monroe, OH 45050 | July 9, 2010 | 390042
Tennessee: Madison | Unincorporated areas of Madison County (09-04-3077P) | March 10, 2010; March 17, 2010; Jackson Sun | The Honorable Jimmy Harris, Mayor, Madison County, 100 East Main Street, Suite 302, Jackson, TN 38301 | July 15, 2010 | 470112
Texas:
Bexar | City of San Antonio (09-06-2985P) | April 2, 2010; April 9, 2010; San Antonio Express-News | The Honorable Julian Castro, Mayor, City of San Antonio, P.O. Box 839966, San Antonio, TX 78283 | August 9, 2010 | 480045
Bexar | City of San Antonio (08-06-2113P) | March 31, 2010; April 7, 2010; Daily Commercial Recorder | The Honorable Julian Castro, Mayor, City of San Antonio, P.O. Box 839966, San Antonio, TX 78283 | April 22, 2010 | 480045
Bexar | City of San Antonio (09-06-2177P) | March 19, 2010; March 26, 2010; Daily Commercial Recorder | The Honorable Julian Castro, Mayor, City of San Antonio, P.O. Box 839966, San Antonio, TX 78283 | April 7, 2010 | 480045
Utah: Weber | City of Ogden (09-08-0418P) | March 19, 2010; March 26, 2010; Ogden Standard-Examiner | The Honorable Matthew R. Godfrey, Mayor, City of Ogden, 2549 Washington Boulevard, Suite 910, Ogden, UT 84401 | July 26, 2010 | 490189

(Catalog of Federal Domestic Assistance No. 97.022, “Flood Insurance.”)

Dated: April 30, 2010.
Sandra K. Knight,
Deputy Federal Insurance and Mitigation Administrator, Mitigation, Department of Homeland Security, Federal Emergency Management Agency.

[FR Doc. 2010-12478 Filed 5-24-10; 8:45 am]

BILLING CODE 9110-12-P